DEPARTMENT OF THE INTERIOR

U.S. Geological Survey

Federal Geographic Data Committee (FGDC); Application Notice Announcing the Opening Date for Transmittal of Applications for Funding Assistance Under the FGDC National Spatial Data Infrastructure (NSDI) Cooperative Agreements Program (CAP) for Fiscal Year (FY) 2001

AGENCY: U.S. Geological Survey, Interior.

ACTION: Notice inviting applications for the NSDI Cooperative Agreements Program awards for fiscal year 2001, with performance to begin in August 2001.

SUMMARY: The purpose of the NSDI Cooperative Agreements Program is to facilitate and foster partnerships, alliances and technology within and among various public and private entities to assist in building the NSDI. The NSDI consists of technologies, policies, organizations and people necessary to promote cost-effective production, ready availability, and greater utilization of high quality geospatial data among a variety of sectors, disciplines and communities.

The FY 2001 NSDI Cooperative Agreements Program will fund projects in five categories of activities (1) metadata implementation assistance, (2) metadata trainer assistance, (3) clearinghouse integration with web mapping, and (4) U.S. and Canadian framework collaborative projects. Applications may be submitted by Federal agencies, State and local government agencies, educational institutions, private firms, non-profit foundations, and Federally acknowledged or state-recognized Native American tribes or groups. Applications from Federal agencies will not be competed against applications from other sources. Authority for this program is contained in the Organic Act of march 3, 1879, 43 U.S.C. 31 and Executive Order 12906.

DATES: The program announcements and application forms for the FY 2001 NSDI Cooperative Agreements Program are expected to be available on or about January 15, 2001. Applications must be received on or before March 15, 2001.

ADDRESSES: Copies of Program Announcement #00HQPA0004 for the NSDI Cooperative Agreements Program, may be obtained by writing to Patricia Masterson, U.S. Geological Survey, Office of Federal Acquisition and Grants, National Assistance Programs Branch, MS 205G, 12201 Sunrise Valley Drive, Reston, VA 20192. Requests must be in writing; verbal requests will not be honored. Copies of each Program Announcement will be available through the Internet at www.usgs.gov/contracts/index.html and www.fgdc.gov.

FOR FURTHER INFORMATION CONTACT: For the NSDI Cooperative Agreements Program contact Ms. Patricia Masterson, U.S. Geological Survey, Office of Federal Acquisition and Grants, National Programs Assistance Branch, Mail Stop 205G, 12201 Sunrise Valley Drive, Reston, Virginia 20192; (703) 648-7356, fax (703) 648-7359, email pmasters@usgs.gov.

SUPPLEMENTARY INFORMATION: Under the NSDI Cooperative Agreements Program a total of $1,000,000 is available for award.

2001 NSDI Cooperative Agreement Program Categories:

Category 1: “Don't Duck Metadata:” Metadata Implementation and Creation Assistance. The objectives for this category are the documentation of geospatial data through metadata creation and serving that documentation on the Internet through a NSDI clearinghouse. Under this category funds are provided for organizations needing assistance in receiving metadata training and in metadata creation.

Category 2: “Don't duck Metadata:” Metadata Trainer Assistance. Funding in this category is for those organizations and individuals that can provide training assistance to other organizations in becoming skilled and knowledgeable in metadata creation.

Category 3: Clearinghouse Integration with Web Mapping provides funding to extend existing Clearinghouse Nodes with OpenGIS Consortium (OGC) Web Mapping Specification capabilities in a consistent way. These specifications allow map servers to create and send standard map images over the internet as GIF, PNG or JPEG in a manner that lets client software overlay and display multiple maps from multiple servers. Funding will be provided to assist organizations extending their existing Clearinghouse nodes with OGC-compliant web mapping service capability.

Category 4: Canadian/U.S. Framework Collaborative Project will support collaborative framework projects between organizations in the U.S. and Canada to coordinate, create, maintain and share basic geospatial data to support decision-making. The information content of the framework includes the data themes of geodetic control, digital orthoimagery, elevation, transportation, hydrography, governmental units, and cadastral data. The FGDC in partnership with the GeoConnections of Natural Resources Canada will fund lead organizations in their respective countries in collaborative cross-border projects.

Dated: January 3, 2001.
Hedy J Rossmeissl,
Senior Program Advisor, U.S. Geological Survey.

[FR Doc. 01-617 Filed 1-9-01; 8:45 am]

BILLING CODE 4310-Y7-M